DEPARTMENT OF TRANSPORTATION

Federal Aviation Administration

14 CFR Part 39

[Docket No. FAA-2009-0994; Directorate Identifier 2009-NM-108-AD; Amendment 39-16194; AD 2010-04-01]

RIN 2120-AA64

Airworthiness Directives; Dassault-Aviation Model Falcon 900EX Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

A quality control performed during completion of one Falcon 900EX aeroplane has shown that the crew and passenger Right-Hand (RH) oxygen lines may both interfere with the frame 8 of the aeroplane structure. A subsequent design review of the oxygen lines routing has confirmed that, on certain aeroplanes, equipped in RH mid-cabin with a 115 cu-ft oxygen cylinder, the installation of the line support assembly at frame 8 needs to be accomplished with precaution; otherwise, the oxygen lines might interfere with the structure, and this condition could lead to an oxygen leak.

* * * * *

The unsafe condition is an oxygen leak, which would result in insufficient oxygen flow to passenger oxygen masks during a depressurization event. We are issuing this AD to require actions to correct the unsafe condition on these products.

DATES: This AD becomes effective March 19, 2010.

The Director of the Federal Register approved the incorporation by reference of a certain publication listed in this AD as of March 19, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on October 28, 2009 (74 FR 55488). That NPRM proposed to correct an unsafe condition for the specified products. The MCAI states:

A quality control performed during completion of one Falcon 900EX aeroplane has shown that the crew and passenger Right-Hand (RH) oxygen lines may both interfere with the frame 8 of the aeroplane structure. A subsequent design review of the oxygen lines routing has confirmed that, on certain aeroplanes, equipped in RH mid-cabin with a 115 cu-ft oxygen cylinder, the installation of the line support assembly at frame 8 needs to be accomplished with precaution; otherwise, the oxygen lines might interfere with the structure, and this condition could lead to an oxygen leak.

As a result, [EASA] Airworthiness Directive 2009-0104 was issued to require inspection of the oxygen lines [for signs of interference or chafing damage], replacement of any damaged lines and modification of their support assembly. Since then, it has been found that the applicability of the AD had not been correctly defined.

This [new EASA] AD retains the requirements of AD 2009-0104 which is superseded and corrects the applicability.

The unsafe condition is an oxygen leak, which would result in insufficient oxygen flow to passenger oxygen masks during a depressurization event. Modifying the support assembly of the oxygen lines includes drilling holes to install improved support bracket assemblies at frame 8, stringers 11 and 13, and installing the improved assemblies. You may obtain further information by examining the MCAI in the AD docket.

Comments

We gave the public the opportunity to participate in developing this AD. We received no comments on the NPRM or on the determination of the cost to the public.

Explanation of Change Made to This AD

We have revised this AD to identify the legal name of the manufacturer as published in the most recent type certificate data sheet for the affected airplane models.

Explanation of Change to Costs of Compliance

Since issuance of the NPRM, we have increased the labor rate used in the Costs of Compliance from $80 per work-hour to $85 per work-hour. The Costs of Compliance information, below, reflects this increase in the specified hourly labor rate.

Conclusion

We reviewed the available data and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect about 23 products of U.S. registry. We also estimate that it will take about 4 work-hours per product to comply with the basic requirements of this AD. The average labor rate is $85 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $7,820, or $340 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-04-01 Dassault-Aviation: Amendment 39-16194. Docket No. FAA-2009-0994; Directorate Identifier 2009-NM-108-AD.

Effective Date

(a) This airworthiness directive (AD) becomes effective March 19, 2010.

Affected ADs

(b) None.

Applicability

(c) This AD applies to Dassault-Aviation Model Falcon 900EX airplanes, certificated in any category, with serial numbers 120 through 123 inclusive, 125 through 127 inclusive, 129, 132, 134 through 145 inclusive, 147, 151, 153, 155, 157 through 159 inclusive, 163, 165, 168 through 170 inclusive, 172, 174, 178, 182, 183, 194, 196, 197, 199, and 206.

Subject

(d) Air Transport Association (ATA) of America Code 35: Oxygen.

Reason

(e) The mandatory continuing airworthiness information (MCAI) states:

A quality control performed during completion of one Falcon 900EX aeroplane has shown that the crew and passenger Right-Hand (RH) oxygen lines may both interfere with the frame 8 of the aeroplane structure. A subsequent design review of the oxygen lines routing has confirmed that, on certain aeroplanes, equipped in RH mid-cabin with a 115 cu-ft oxygen cylinder, the installation of the line support assembly at frame 8 needs to be accomplished with precaution; otherwise, the oxygen lines might interfere with the structure, and this condition could lead to an oxygen leak.

As a result, [European Aviation Safety Agency (EASA)] Airworthiness Directive 2009-0104 was issued to require inspection of the oxygen lines [for signs of interference and chafing damage], replacement of any damaged lines and modification of their support assembly. Since then, it has been found that the applicability of the AD had not been correctly defined.

This [EASA] AD retains the requirements of AD 2009-0104 which is superseded and corrects the applicability.

The unsafe condition is an oxygen leak, which would result in insufficient oxygen flow to passenger oxygen masks during a depressurization event. Modifying the support assembly of the oxygen lines includes drilling holes to install improved support bracket assemblies at frame 8, stringers 11 and 13, and installing the improved assemblies.

Actions and Compliance

(f) Unless already done, do the following actions.

(1) Within 2 months after the effective date of this AD, inspect the oxygen lines in accordance with Part 1 of the Accomplishment Instructions of Dassault Mandatory Service Bulletin F900EX-347, Revision 1, dated May 18, 2009. If any interference or damage is found, before further flight, replace the oxygen lines and install improved brackets, in accordance with Part 2 of the Accomplishment Instructions of Dassault Mandatory Service Bulletin F900EX-347, Revision 1, dated May 18, 2009.

(2) If no interference and no damage are found during the inspection required by paragraph (f)(1) of this AD: Within 72 months after the effective date of this AD, replace the oxygen line support assemblies, in accordance with Part 2 of the Accomplishment Instructions of Dassault Mandatory Service Bulletin F900EX-347, Revision 1, dated May 18, 2009.

(3) Actions accomplished before the effective date of this AD in accordance with Dassault Mandatory Service Bulletin F900EX-347, dated March 19, 2009, are acceptable for compliance with corresponding actions specified in this AD.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI EASA Airworthiness Directive 2009-0126, dated June 18, 2009; and Dassault Mandatory Service Bulletin F900EX-347, Revision 1, dated May 18, 2009; for related information.

Material Incorporated by Reference

(i) You must use Dassault Mandatory Service Bulletin F900EX-347, Revision 1, dated May 18, 2009, to do the actions required by this AD, unless the AD specifies otherwise.

(1) The Director of the Federal Register approved the incorporation by reference of this service information under 5 U.S.C. 552(a) and 1 CFR part 51.

(2) For service information identified in this AD, contact Dassault Falcon Jet, P.O. Box 2000, South Hackensack, New Jersey 07606; telephone 201-440-6700; Internet http://www.dassaultfalcon.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on January 29, 2010.
Ali Bahrami,
Manager, Transport Airplane Directorate, Aircraft Certification Service.

[FR Doc. 2010-2609 Filed 2-11-10; 8:45 am]

BILLING CODE 4910-13-P